DEPARTMENT OF HEALTH AND HUMAN SERVICES

Agency for Healthcare Research and Quality

Study Section Meetings—Change of Dates and Time

With this notice, the Agency for Healthcare Research and Quality informs the public of the change of date and time for two meetings. The original notice of these meetings was published in the Federal Register on April 15, 2003, Volume 68, Number 72, Page 18210.

Below are the changes for the two meetings highlighted in bold.

• Name of Subcommittee: Health Care Technology and Decision Sciences

Date: June 4-5, 2003 (Open from 6:30 p.m. to 6:45 p.m. on June 4 and closed for remainder of the meeting)

Place: Doubletree Hotel, 1750 Rockville Pike, Conference Room TBD, Rockville, Maryland 20852

• Name of Subcommittee: Health Care Quality and Effectiveness Research

Date: June 18-19, 2003 (Open from 6:30 p.m. to 6:45 p.m. on June 18 and closed for remainder of the meeting)

Place: Doubletree Hotel, 1750 Rockville Pike, Conference Room TBD, Rockville, Maryland 20852

Agenda items for these meetings are subject to change as priorities dictate.

Dated: May 8, 2003.
Carolyn M. Clancy,
Director

[FR Doc. 03-12461 Filed 5-16-03; 8:45 am]

BILLING CODE 4160-90-M